ENVIRONMENTAL PROTECTION AGENCY

[EPA-HQ-OPP-2009-1017; FRL-9905-45]

Product Cancellation Order for Certain Pesticide Registrations; Correction

AGENCY: Environmental Protection Agency (EPA).

ACTION: Notice; correction.

SUMMARY: EPA issued a notice in the Federal Register of August 21, 2013, and October 30, 2013, concerning receipt of requests to voluntarily cancel certain pesticide registrations and its follow-up product cancellation order, respectively. In both notices, EPA inadvertently listed the pesticide product Paraquat Dichloride Technical (EPA Reg. No. 083558-00005). The registrant did not request voluntary cancellation for this product. Therefore, EPA is not cancelling the pesticide product Paraquat Dichloride Technical (EPA Reg. No. 083558-00005). This document removes the cancellation order for Paraquat Dichloride Technical (EPA Reg. No. 083558-00005) listed in both the August 21, 2013, and October 30, 2013, Federal Register notices.

FOR FURTHER INFORMATION CONTACT: John W. Pates, Jr., Pesticide Re-Evaluation Division (7508P), Office of Pesticide Programs, Environmental Protection Agency, 1200 Pennsylvania Ave. NW., Washington, DC 20460-0001; telephone number: (703) 308-8195; email address: pates.john@epa.gov.

SUPPLEMENTARY INFORMATION:

I. General Information

A. Does this action apply to me?

The Agency included in the Federal Register notices of August 21, 2013 (78 FR 51721) (FRL 9396-5) and October 30, 2013 (78 FR 64938) (FRL-9403-2) a list of those who may be potentially affected by this action.

B. How can I get copies of this document and other related information?

The docket for this action, identified by docket identification (ID) number EPA-HQ-OPP-2009-1017, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. What does this correction do?

EPA issued a notice in the Federal Register of August 21, 2013, and October 30, 2013, concerning receipt of requests to voluntarily cancel certain pesticide registrations and its follow-up product cancellation order, respectively. In both notices, EPA inadvertently listed the pesticide product Paraquat Dichloride Technical (EPA Reg. No. 083558-00005). The registrant did not request voluntary cancellation for this product and this document corrects the inclusion of this product registration for voluntary cancellation. Therefore, EPA is not cancelling the pesticide product Paraquat Dichloride Technical (EPA Reg. No. 083558-00005). This document removes the cancellation order for Paraquat Dichloride Technical (EPA Reg. No. 083558-00005) listed in both the August 21, 2013, and October 30, 2013, Federal Register notices.

List of Subjects

Environmental protection, Pesticides and pests.

Dated: March 5, 2014.
Richard P. Keigwin, Jr.,
Director, Pesticide Re-Evaluation Division, Office of Pesticide Programs.

[FR Doc. 2014-05390 Filed 3-11-14; 8:45 am]

BILLING CODE 6560-50-P